DEPARTMENT OF TRANSPORTATION

Federal Aviation Administration

14 CFR Part 77

[Docket No.: FAA-2006-25002; Amendment No. 77-13]

RIN 2120-AH31

Safe, Efficient Use and Preservation of the Navigable Airspace; OMB Approval of Information Collection

AGENCY: Federal Aviation Administration, DOT.

ACTION: Final rule; OMB approval of information collection.

SUMMARY: This document announces the Office of Management and Budget's (OMB's) approval of the information collection requirements in the final rule, published on July 21, 2010, entitled Safe, Efficient Use and Preservation of the Navigable Airspace.

DATES: The final rule published on July 21, 2010 with an effective date of January 18, 2011. The FAA received OMB approval for the information collection requirements in the final rule on January 14, 2011. The information collection requirements in the final rule will become effective on February 15, 2011.

FOR FURTHER INFORMATION CONTACT: For technical questions about the final rule, contact Ellen Crum, Air Traffic Systems Operations, Airspace and Rules Group, AJR-33, Federal Aviation Administration, 800 Independence Ave., SW., Washington, DC 20591; telephone (202) 267-8783; facsimile (202) 267-9328.

SUPPLEMENTARY INFORMATION On July 21, 2010, the final rule entitled Safe, Efficient Use and Preservation of the Navigable Airspace, was published in the Federal Register.¹ In that rule, the FAA amended the regulations governing objects that may affect the navigable airspace to incorporate case law and legislative action, and to simplify the rule language.

¹ 75 FR 42296; July 21, 2010.

In section III ² of the preamble to the final rule, the FAA noted that affected parties were not required to comply with the new information collection requirements until OMB approved the FAA's request to collect the information.

² Paperwork Reduction Act.

In accordance with the Paperwork Reduction Act, the FAA submitted a copy of the new information collection requirements to OMB for its review. On January 14, 2011, OMB approved the FAA's request under Control Number 2120-0745, which will expire January 31, 2013.

Today's notice is being published to inform affected parties of OMB's approval, and to announce that as of the effective date of this notice, affected parties must comply with the new information collection requirements in 14 CFR 77.7, 77.9, and 77.11.

As part of OMB's approval, it advised the FAA that because the form ³ that will be used to collect the new information was previously approved under existing Control Number 2120-0001, the FAA must revise 2120-0001 to incorporate the new information collection requirements and submit the revision to OMB for approval. Accordingly, the FAA will prepare the revision and publish it in the Federal Register for public comment. The FAA will consider the comments it receives before finalizing the revision and sending it to OMB for approval. Meanwhile, affected parties must comply with the information collection requirements in the final rule, Safe, Efficient Use and Preservation of the Navigable Airspace, according to OMB's approval under Control Number 2120-0745.

³ FAA Form 7460-1: Notice of Proposed Construction or Alteration.

Issued in Washington, DC, on February 9, 2011.
Pamela Hamilton-Powell,
Director, Office of Rulemaking.

[FR Doc. 2011-3312 Filed 2-14-11; 8:45 am]

BILLING CODE 4910-13-P